DEPARTMENT OF HOUSING AND URBAN DEVELOPMENT

[Docket No. FR-5907-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040, Washington, DC 20405, (202) 501-0084; NAVY: Mr. Steve Matteo, Department of the Navy, Asset Management; Division, Naval Facilities Engineering Command, Washington Navy Yard, 1330 Patterson Ave. SW., Suite 1000, Washington, DC 20374; (202) 685-9426; (These are not toll-free numbers).

Dated: January 28, 2016.
Tonya Proctor,
Deputy Director, Office of Special Needs Assistance Programs.

TITLE V, FEDERAL SURPLUS PROPERTY PROGRAM, FEDERAL REGISTER REPORT FOR 02/05/2016

Suitable/Available Properties

Building

Arkansas

Prairie Creek Park Picnic

Shelters; 9300 N. Park Rd.

Beaver Lake Project

Rogers AR 72756

Landholding Agency: COE

Property Number: 31201610001

Status: Underutilized

Comments: off-site removal only; no future agency need; used seasonal; 600 sq. ft.; roof need repairs; contact COE for more information.

Waveland Park, Vault Toilet

BLUMTN-43365

Blue Mountain Lake

Havana AR 72842

Landholding Agency: COE

Property Number: 31201610002

Status: Underutilized

Comments: 10′8″x24′; 3+ months vacant; substantial repairs needed; contact COE for more information.

California

Kernville Work Center

I.D. #1013 Kernville Residence

(Duplex); 11380 Kernville Rd.

Kernville CA 93238

Landholding Agency: Agriculture

Property Number: 15201610001

Status: Underutilized

Comments: off-site removal only; 2,224 sq. ft.; removal difficult due to size/type; 50% vacant; available 30 days after application approved by HHS; fair conditions; contact Agriculture for more info.

Illinois

Federal Bldg. & Courthouse

201 N. Vermillion St.

Danville IL 61832

Landholding Agency: GSA

Property Number: 54201610003

Status: Excess

GSA Number: 1-G-IL-810

Comments: 67,845 sq. ft.; office & courthouse; good condition; asbestos and LBPs identified; remediation needed; contact GSA for more information.

Oklahoma

03.50716 621700B023

Entomology Headhouse (USDA/ARS)

07334 Plant Science & Water Conserv.

Research

Stillwater OK 74075

Landholding Agency: Agriculture

Property Number: 15201610002

Status: Unutilized

Directions: Located off west Virginia Ave.

Comments: off-site removal only; no future agency need; removal difficult due to size/type; 3,000 sq. ft.; good conditions; contact Agriculture for more info.

03.50715 621700B022

Entomology Greenhouse (USDA/ARS)

07334 Plant Science & Water Conserv.

Stillwater OK 74075

Landholding Agency: Agriculture

Property Number: 15201610003

Status: Unutilized

Directions: Located off west Virginia Ave.

Comments: off-site removal only; no future agency need; 500 sq. ft.; good conditions; contact Agriculture for more info.

03.50710 621700B014

Storage 14 (USDA/ARS)

07334 Plant Science & Water Conserv.

Stillwater OK 74075

Landholding Agency: Agriculture

Property Number: 15201610004

Status: Unutilized

Comments: off-site removal only; removal difficult due to type/size; no future agency need; 2,976 sq. ft.; warehouse; very good conditions but no potable water; contact Agriculture for more info.

03.50713 621700B019

Storage Entomology (USDA/ARS)

07334 Plant Science & Water Conserv.

Stillwater OK 74075

Landholding Agency: Agriculture

Property Number: 15201610005

Status: Unutilized

Comments: off-site removal only; no future agency need; removal difficult due to type/size; 1,440 sq. ft.; fair conditions; contact Agriculture for more info.

Land

Florida

Former Outer Maker Site

105th Ave. North

Royal Palm Beach FL 33411

Landholding Agency: GSA

Property Number: 54201610001

Status: Surplus

GSA Number: 4-U-FL_1332AA

Directions: Landholding Agency: FAA; Disposal Agency: GSA

Comments: 0.92 acres; contact GSA for more information.

Former Radio Communication

Receiver Site

SW Kanner Hwy

Martin FL 34956

Landholding Agency: GSA

Property Number: 54201610002

Status: Surplus

GSA Number: 4-U-FL-1321

Directions: Landholding Agency: FAA; Disposal Agency: GSA

Comments: 1.06 acres; contact GSA for more information.

Unsuitable Properties

Building

Arkansas

44915

Nimrod—Blue Mountain

Project Office

Plainview AR 72857

Landholding Agency: COE

Property Number: 31201610003

Status: Underutilized

Comments: documented deficiencies: submerged underwater for several months; clear threat to physical safety.

Reasons: Extensive deterioration

California

Seiad Oaks Residence Garage

NRM Bldg. ID 4916002; RPUID:96086 1061.003771

1205 Seiad Oaks Rd.

Seiad Valley CA 96086

Landholding Agency: Agriculture

Property Number: 15201610006

Status: Underutilized

Comments: documented deficiencies: dilapidated; must be removed; however, most likely will collapse if relocation attempted; clear threat to physical safety.

Reasons: Extensive deterioration

Florida

3862

Naval Air Station

Pensacola FL 32508

Landholding Agency: Navy

Property Number: 77201610004

Status: Unutilized

Comments: public access denied and no alternative method to gain access without compromising national security.

Reasons: Secured Area

3578

Naval Air Station

Pensacola FL 32508

Landholding Agency: Navy

Property Number: 77201610005

Status: Unutilized

Comments: public access denied and no alternative method to gain access without compromising national security.

Reasons: Secured Area

1518

Naval Air Station

Pensacola FL 32508

Landholding Agency: Navy

Property Number: 77201610006

Status: Unutilized

Comments: public access denied and no alternative method to gain access without compromising national security.

Reasons: Secured Area

Hawaii

2 Buildings

Marine Corps Base

Camp Smith HI 96861

Landholding Agency: Navy

Property Number: 77201610018

Status: Excess

Directions: 69; 70

Comments: public access denied and no alternative method to gain access without compromising national security.

Reasons: Secured Area

Mississippi

Facility Number 361-Applied

Facility

Naval Construction Battalion Center

Gulfport MS

Landholding Agency: Navy

Property Number: 77201610007

Status: Unutilized

Comments: public access denied and no alternative method to gain access without compromising national security.

Reasons: Secured Area

Facility Number 399

San Blast Facility

Naval Construction Battalion Center

Gulfport MS

Landholding Agency: Navy

Property Number: 77201610008

Status: Unutilized

Comments: public access denied and no alternative method to gain access without compromising national security.

Reasons: Secured Area

Facility Number 328

Naval Lodge

Naval Construction Battalion Center

Gulfport MS

Landholding Agency: Navy

Property Number: 77201610009

Status: Unutilized

Comments: public access denied and no alternative method to gain access without compromising national security.

Reasons: Secured Area

Facility Number 190B

Magazine

Naval Construction Battalion Center

Gulfport MS

Landholding Agency: Navy

Property Number: 77201610010

Status: Unutilized

Comments: public access denied and no alternative method to gain access without compromising national security.

Reasons: Secured Area.

Facility Number 190C

Magazine

Naval Construction Battalion Center

Gulfport MS

Landholding Agency: Navy

Property Number: 77201610011

Status: Unutilized

Comments: public access denied and no alternative method to gain access without compromising national security.

Reasons: Secured Area

Facility Number 190D

Magazine

Naval Construction Battalion Center

Gulfport MS

Landholding Agency: Navy

Property Number: 77201610012

Status: Unutilized

Comments: public access denied and no alternative method to gain access without compromising national security.

Reasons: Secured Area

Facility Number 190E

Magazine

Naval Construction Battalion Center

Gulfport MS

Landholding Agency: Navy

Property Number: 77201610013

Status: Unutilized

Comments: public access denied and no alternative method to gain access without compromising national security.

Reasons: Secured Area

Facility Number 190F

Magazine

Naval Construction Battalion Center

Gulfport MS

Landholding Agency: Navy

Property Number: 77201610014

Status: Unutilized

Comments: public access denied and no alternative method to gain access without compromising national security.

Reasons: Secured Area

Facility number 190A

Magazine

Naval Construction Battalion Center

Gulfport MS

Landholding Agency: Navy

Property Number: 77201610015

Status: Unutilized

Comments: public access denied and no alternative method to gain access without compromising national security.

Reasons: Secured Area

Facility Number 33

Child Development Center Annex

Naval Construction Battalion Center

Gulfport MS

Landholding Agency: Navy

Property Number: 77201610016

Status: Unutilized

Comments: public access denied and no alternative method to gain access without compromising national security.

Reasons: Secured Area

Facility Number 45

Addiction Treatment Facility

Naval Construction Battalion Center

Gulfport MS

Landholding Agency: Navy

Property Number: 77201610017

Status: Unutilized

Comments: public access denied and no alternative method to gain access without compromising national security.

Reasons: Secured Area

New Jersey

Naval Weapons Station Earle

201 Highway 34

Colts Neck NJ 07722

Landholding Agency: Navy

Property Number: 77201610002

Status: Underutilized

Comments: public access denied and no alternative method to gain access without compromising national security.

Reasons: Secured Area

New Mexico

2 Buildings

Los Alamos National Lab

Los Alamos NM 87545

Landholding Agency: Energy

Property Number: 41201610001

Status: Excess

Directions: TA 03-2147; TA 33-0016

Comments: public access denied and no alternative method to gain access without compromising national security.

Reasons: Secured Area

Tennessee

2 Buildings

Y-12 National Security Complex

Oak Ridge TN 37831

Landholding Agency: Energy

Property Number: 41201610002

Status: Unutilized

Directions: 9949-BB; 9949-90

Comments: public access denied and no alternative method to gain access without compromising national security.

Reasons: Secured Area

Texas

Proctor Lake; Sowell Creek

Group Shelter

801 FM 1476

Dublin TX 76446

Landholding Agency: COE

Property Number: 31201610004

Status: Excess

Comments: documented deficiencies: severe foundation issues; moisture in cracks; flooding damage; broken support beam; clear threat to physical safety.

Reasons: Extensive deterioration

Proctor Lake, High Point Restroom #2

State Park Rd.

Dublin TX 76446

Landholding Agency: COE

Property Number: 31201610005

Status: Excess

Comments: public access denied and no alternative method to gain access without compromising national security.

Reasons: Secured Area

[FR Doc. 2016-01935 Filed 2-4-16; 8:45 am]

BILLING CODE 4210-67-P